DEPARTMENT OF THE INTERIOR

Bureau of Land Management

[MT-029-1610-DH CBMP]

Extension of Scoping Period, Montana

AGENCY: Bureau of Land Management, Miles City and Billings Field Offices, Interior.

ACTION: Notice.

SUMMARY: The BLM issued a Notice of Intent to Plan in a December 19, 2000 Federal Register notice. This notice is to inform the public that the scoping period has been extended to January 31, 2001.

BLM is preparing an Oil and Gas Resource Management Plan (RMP) Amendment and Environmental Impact Statement (EIS) jointly with the State of Montana (State). The planning area for the BLM will be the BLM-administered oil and gas estate within the Powder River and Billings RMP areas. The planning area for the State will be potential coal bed methane development areas around the state. The RMP Amendment will be based on the existing statutory requirements and will meet the requirements of the Federal Land Policy and Management Act (FLPMA) of 1976. The RMP Amendment will guide BLM's oil and gas decisions within the Powder River and Billings RMP areas and help the State evaluate effects of further oil and gas permit applications. The Draft EIS and RMP Amendment is scheduled for completion by September 2001. The Final EIS and Proposed RMP Amendment is scheduled for March 2002.

The public has been asked to help BLM and the State identify issues, concerns and alternatives. Draft Planning Criteria to help guide the effort have also been developed for public comment.

DATES: Any issues, concerns, or alternatives should be submitted to BLM on or before January 31, 2001.

ADDRESSES: All submissions should be sent to the following address: BLM, Mary Bloom, BLM Project Leader, 111 Garryowen Road, Miles City, Montana, 59301.

FOR FURTHER INFORMATION CONTACT: Mary Bloom, BLM Project Leader, (406) 233-3649.

SUPPLEMENTARY INFORMATION: Supplementary information is described in Federal Register Notice of Intent to Plan dated December 19, 2000, Volume 65, Number 244, pages 79422-79423.

The BLM and the State are seeking information from individuals, organizations, and agencies that may be affected by the plan. Specifically, we request any issues, concerns or alternatives that should be addressed in the plan amendment.

This notice meets the requirements of 40 CFR 1501.7 and 43 CFR 1610.2(c).

Dated: January 3, 2001.
Aden L. Seidlitz,
Associate Field Manager.

[FR Doc. 01-1355 Filed 1-16-01; 8:45 am]

BILLING CODE 4310-DN-P